LIBRARY OF CONGRESS

Copyright Royalty Board

37 CFR Part 385

[Docket No. 16-CRB-0003-PR (2018-2022)]

Determination of Rates and Terms for Making and Distributing Phonorecords (Phonorecords III); Comment Period Extension

AGENCY: Copyright Royalty Board, Library of Congress.

ACTION: Proposed rule; extension of comment period for reply comments.

SUMMARY: The Copyright Royalty Judges announce that they will accept reply comments in response to comments they received about a proposed rule regarding rates and terms applicable during the upcoming rate period for the section 115 statutory license for making and distributing phonorecords of nondramatic musical works.

DATES: Reply comments for the proposed rule published July 25, 2016 (81 FR 48371) are due no later than November 17, 2016.

ADDRESSES: The proposed rule and the comments filed in response to it are posted on the agency's Web site (www.loc.gov/crb). The proposed rule is also posted at Regulations.gov (www.regulations.gov). Interested parties may submit reply comments via email to crb@loc.gov. Those who choose not to submit reply comments via email should see How to Submit Reply Comments in the SUPPLEMENTARY INFORMATION section below for online and physical addresses and further instructions.

FOR FURTHER INFORMATION CONTACT: Kimberly Whittle, Attorney Advisor, by telephone at (202) 707-7658, or by email at crb@loc.gov.

SUPPLEMENTARY INFORMATION: On July 25, 2016, the Judges published a proposed rule and requested comments. 81 FR 48371. The proposed rule was based upon a partial settlement ¹ regarding copyright royalty rates and terms applicable during the upcoming rate period for the section 115 statutory license for making and distributing phonorecords of nondramatic musical works. See Joint Motion to Adopt Partial Settlement, Docket No. 16-CRB-0003-PR (2018-2022) (June 15, 2016).

¹ The participants filing the motion were Church Music Publishers Association, Nashville Songwriters Association International, National Music Publishers Association, Harry Fox Agency, and Songwriters of North America, and licensees Universal Music Group and Warner Music Group.

On or before August 24, 2016, the Judges received two timely comments, one from the American Association of Independent Music (A2IM) that supported it and one from Sony Music Entertainment (“Sony”) that supported it in part and opposed it in part.

On August 30, 2016, the National Music Publishers' Association and the Nashville Songwriters Association International filed a joint Motion for Leave to Respond to the Comments and Objections of Sony Music Entertainment Concerning Proposed Settlement (Joint Motion). In the interest of promoting a more complete record with regard to the proposed rule, the Judges will grant the Joint Motion. In addition, the Judges hereby announce that they will accept, without additional motions required, additional reply comments, if any, to the comments filed by A2IM and Sony.

The reply comments, if any, must be submitted no later than November 17, 2016.

How To Submit Reply Comments

Interested members of the public must submit reply comments to only one of the following addresses. If not submitting by email or online, commenters must submit an original of their reply comments, five paper copies, and an electronic version in searchable PDF format on a CD.

Email: crb@loc.gov; or

Online: http://www.regulations.gov; or

U.S. mail: Copyright Royalty Board, P.O. Box 70977, Washington, DC 20024-0977; or

Overnight service (only USPS Express Mail is acceptable): Copyright Royalty Board, P.O. Box 70977, Washington, DC 20024-0977; or

Commercial courier: Address package to: Copyright Royalty Board, Library of Congress, James Madison Memorial Building, LM-403, 101 Independence Avenue SE., Washington, DC 20559-6000. Deliver to: Congressional Courier Acceptance Site, 2nd Street NE. and D Street NE., Washington, DC; or

Hand delivery: Library of Congress, James Madison Memorial Building, LM-401, 101 Independence Avenue SE., Washington, DC 20559-6000.

Dated: October 12, 2016.
Suzanne M. Barnett,
Chief Copyright Royalty Judge.

[FR Doc. 2016-25075 Filed 10-17-16; 8:45 am]

BILLING CODE 1410-72-P